DEPARTMENT OF ENERGY

Federal Energy Regulatory Commission

[Docket No. RP00-489-002]

Young Gas Storage Company, Ltd.; Notice of Compliance Filing

August 12, 2002.

Take notice that on August 5, 2002, Young Gas Storage Company, Ltd. (Young) tendered for filing to its FERC Gas Tariff, Original Volume No. 1, the following tariff sheets to become effective August 1, 2002:

Substitute Second Revised Sheet No. 46

Substitute First Revised Sheet No. 106A

The tendered tariff sheets remove the incidental sales provision from Young's Tariff.

Any person desiring to protest said filing should file a protest with the Federal Energy Regulatory Commission, 888 First Street, NE., Washington, DC 20426, in accordance with Section 385.211 of the Commission's Rules and Regulations. All such protests must be filed on or before August 19, 2002. Protests will be considered by the Commission in determining the appropriate action to be taken, but will not serve to make protestants parties to the proceedings. Copies of this filing are on file with the Commission and are available for public inspection. This filing may also be viewed on the Web at http://www.ferc.gov using the “FERRIS” link. Enter the docket number excluding the last three digits in the docket number field to access the document. For assistance, call (202) 502-8222 or for TTY, (202) 208-1659. Comments, protests and interventions may be filed electronically via the Internet in lieu of paper. The Commission strongly encourage electronic filings. See, 18 CFR 385.2001(a)(1)(iii) and the instructions on the Commission's Web site under the “e-Filing” link.

Linwood A. Watson, Jr.,
Deputy Secretary.

[FR Doc. 02-20837 Filed 8-15-02; 8:45 am]

BILLING CODE 6717-01-P